ENVIRONMENTAL PROTECTION AGENCY

[ER-FRL-6681-2]

Environmental Impacts Statements; Notice of Availability

Responsible Agency: Office of Federal Activities, General Information (202) 564-7167 or http://www.epa.gov/compliance/nepa/.

Weekly receipt of Environmental Impact Statements

Filed 11/06/2006 Through 11/10/2006

Pursuant to 40 CFR 1506.9

EIS No. 20060466, Final EIS, BLM, WY, Pit 14 Coal Lease-by-Application Project, Black Butte Coal Mine, Surface Mining Operations, Federal Coal Lease Application WYW160394, Sweetwater County, WY, Wait Period Ends: 12/18/2006, Contact: Teri Deakin 307-352-0211.

EIS No. 20060467, Draft EIS, FHW, CA, Interstate 5 (Santa Ana Freeway) Project, Improvement from State Route 91 in Orange County to Interstate 605 in Los Angeles County, CA, Comment Period Ends: 01/05/2007, Contact: Steve Healow 916-498-5849.

EIS No. 20060468, Final EIS, NPS, CA, Sequoia and Kings Canyon National Parks, General Management Plan, Middle and South Forks of the Kings River and North Forks of the Kern River, General Management Plan, Tulare and Fresno Counties, CA, Wait Period Ends: 12/18/2006, Contact: Susan Spain 202-245-4692.

EIS No. 20060469, Draft EIS, FHW, 00, U.S. 301 Project Development, Transportation Improvements from MD State Line to DE-1, South of the Chesapeake and Delaware Canal, New Castle County, DE, Comment Period Ends: 02/01/2007, Contact: Robert Kleinburd 302-734-2966.

EIS No. 20060470, Final EIS, FHW, CO, I-25 Valley Highway Project, Transportation Improvement from Logan to U. S. 6, Denver County, CO, Wait Period Ends: 12/18/2006, Contact: Chris Horn 720-963-3017.

EIS No. 20060471, Draft EIS, FHW, IL, Prairie Parkway Study, Transportation System Improvement between Interstate 80 (I-80) and Interstate 88 (I-88) Grundy, Kendall and Kane Counties, Il, Comment Period Ends: 01/16/2007 Contact: Matt Fuller 217-492-4625.

EIS No. 20060472, Draft EIS, MMS, 00, Gulf of Mexico Outer Continental Shelf Oil and Gas Lease Sales: 2007-2012 Western Planning Area Sales 204, 207, 210, 215, and 218: Central Planning Area Sales 205, 206, 208, 213, 216, and 222, : TX, LA, MS, AL and Fl, Comment Period Ends: 01/02/2007, Contact: Mary Boatman 703-787-1662.

EIS No. 20060473, Final EIS, FHW, MO, Interstate 29/35 Paseo Bridge Corridor, Reconstruct and Widen I-29/35, Missouri River, North Kansas City and Kansas City, Clay and Jackson Counties, MO, Wait Period Ends: 12/18/2006, Contact: Peggy Casey 573-636-7104.

Amended Notices

EIS No. 20060404, Final EIS, SFW, AK, Kodiak National Wildlife Refuge, Draft Revised Comprehensive Conservation Plan, Implementation, AK, Wait Period Ends: 12/15/2006, Contact: Mikel R. Haase 907-786-3402.

Revision of FR Notice Published on 10/06/2006: CEQ Wait Period Ending 11/06/2006 has been Extended to 12/15/2006

Dated: November 14, 2006.
Robert W. Hargrove,
Director, NEPA Compliance Division, Office of Federal Activities.

[FR Doc. E6-19474 Filed 11-16-06; 8:45 am]

BILLING CODE 6560-50-P